DEPARTMENT OF HEALTH AND HUMAN SERVICES

Centers for Medicare & Medicaid Services

[CMS-1658-N]

RIN 0938-ZB23

Medicare Program; Inpatient Prospective Payment Systems; 0.2 Percent Reduction

AGENCY: Centers for Medicare & Medicaid Services (CMS), HHS.

ACTION: Notice.

SUMMARY: Pursuant to the court's October 6, 2015 order in Shands Jacksonville Medical Center, Inc., v. Sebelius, No. 14-263 (D.D.C.) and consolidated cases that challenge the 0.2 percent reduction in FY 2014 inpatient prospective payment systems (IPPS) rates to account for the estimated $220 million in additional FY 2014 expenditures resulting from the 2-midnight policy, we are currently scheduled to publish a notice in the Federal Register responding to comments we have received on these issues, including those received in response to the December 1, 2015 notice with comment period (80 FR 75107). We have moved the court for an extension of the March 18, 2016 deadline until April 27, 2016. We anticipate publishing the notice on or before April 27, 2016.

FOR FURTHER INFORMATION CONTACT: Chava Sheffield (410) 786-2298.

Dated: March 15, 2016.
Andrew M. Slavitt,
Acting Administrator, Centers for Medicare & Medicaid Services.

[FR Doc. 2016-06297 Filed 3-17-16; 8:45 am]

BILLING CODE 4120-01-P